DEPARTMENT OF TRANSPORTATION

Federal Aviation Administration

Galley Carts and Containers

AGENCY: Federal Aviation Administration (FAA), (DOT).

ACTION: Notice of availability and request for public comment.

SUMMARY: This notice announces the availability of, and requests comment on proposed Technical Standard Order (TSO) C-175, Galley Carts and Containers. This proposed TSO tells persons seeking TSO authorization or letter of design approval what minimum performance standards (MPS) their galley carts and containers must meet to be identified with the appropriate TSO making.

DATES: Comments must be received on or before July 19, 2005.

ADDRESSES: Send all comments on this proposed TSO to: Federal Aviation Administration (FAA), Aircraft Certification Service, Aircraft Engineering Division, Technical Programs and Continued Airworthiness Branch (AIR-120), 800 Independence Avenue SW., Washington DC 20591. ATTN: Mr. Dave Rich. Or, you may deliver comments to: Federal Aviation Administration, Room 815, 800 Independence Avenue SW., Washington, DC 20591.

FOR FURTHER INFORMATION CONTACT: Mr. Dave Rich, AIR-120, Room 815, Federal Aviation Administration, 800 Independence Avenue SW., Washington, DC 20591. Telephone (412) 262-9034, ext. 292, fax (412) 264-9302.

SUPPLEMENTARY INFORMATION:

Comments Invited

You are invited to comment on the proposed TSO by submitting written data, views, or arguments to the above address. Comments received may be examined, both before and after the closing date, in room 815 at the above address, weekdays except Federal holidays, between 8:30 a.m. and 4:30 p.m. The Director, Aircraft Certification Service, will consider all comments received on or before the closing date before issuing the final TSO.

Background

In November 2004, the SAE International organization published the Aerospace Standard (AS) 8056, Minimum Design and Performance of Airplane Galley In-Flight Carts, Containers, and Associated Components, that prescribes the minimum design and performance requirements for equipment used in aircraft for the housing of beverages, meals, and waste. As such, the FAA elects to adopt with minor modifications, the standards prescribed in AS 8056 as the minimum performance standards a manufacturer of galley carts and containers must first meet in order for their product to be identified with TSO-C175 markings.

How To Obtain Copies

You can view or download the proposed TSO from its online location at: http://www.airweb.faa.gov/rgl. At this Web page, select “Technical Standard Orders.” At the TSO page, select “Proposed TSOs.” For a paper copy, contact the person listed in FOR FURTHER INFORMATION CONTACT.

Note: SAE International documents are copyrighted and may not be reproduced without the written consent of SAE International. You may purchase copies of SAE International documents from: SAE International, 400 Commonwealth Drive, Warrendale, PA 15096-0001, or directly from their Web site: http:/www.sae,org/.

Issued in Washington, DC, on May 16, 2005.
Susan J.M. Cabler,
Assistant Manager, Aircraft Engineering Division, Aircraft Certification Service.

[FR Doc. 05-10135 Filed 5-19-05; 8:45 am]

BILLING CODE 4910-13-M